DEPARTMENT OF HOMELAND SECURITY

Federal Emergency Management Agency

[Internal Agency Docket No. FEMA-4407-DR; Docket ID FEMA-2019-0001]

California; Amendment No. 3 to Notice of a Major Disaster Declaration

AGENCY: Federal Emergency Management Agency, DHS.

ACTION: Notice.

SUMMARY: This notice amends the notice of a major disaster declaration for the State of California (FEMA-4407-DR), dated November 12, 2018, and related determinations.

DATES: This amendment was issued February 15, 2019.

FOR FURTHER INFORMATION CONTACT: Dean Webster, Office of Response and Recovery, Federal Emergency Management Agency, 500 C Street SW, Washington, DC 20472, (202) 646-2833.

SUPPLEMENTARY INFORMATION: Notice is hereby given that, pursuant to the Consolidated Appropriations Act, 2019, the Federal share of assistance, including direct Federal assistance, provided under sections 403 and 407 of the Robert T. Stafford Disaster Relief and Emergency Assistance Act (42 U.S.C. 5170b and 42 U.S.C. 5173), with respect to a major disaster declared pursuant to such Act for damages resulting from a wildfire in calendar year 2018, shall be not less than 90 percent of the eligible costs under such section. The adjustment to the Federal share applies to assistance provided before, on, or after the date of enactment of the Act. The major disaster declared on November 12, 2018, for the State of California is amended as follows:

Federal funds for debris removal and emergency protective measures (Categories A and B), including direct federal assistance, under the Public Assistance program are authorized at 90 percent of total eligible costs.

The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

Pete Gaynor,
Acting Administrator, Federal Emergency Management Agency.

[FR Doc. 2019-09181 Filed 5-3-19; 8:45 am]

BILLING CODE 9111-23-P